DEPARTMENT OF ENERGY

Electric Vehicle Working Group

AGENCY: Department of Energy.

ACTION: Notice of open meeting.

SUMMARY: The Department of Energy hereby publishes a notice of open meeting of the Electric Vehicle Working Group (EVWG). The Federal Advisory Committee Act requires that public notice of these meetings be announced in the Federal Register.

DATES: Tuesday, December 12, 2023; 1:00 p.m. to 4:30 p.m. Eastern Time and Wednesday, December 13, 2023; 9:00 a.m. to 4:30 p.m. Eastern Time. Start and end times may change slightly. Please visit https://driveelectric.gov/ev-working-group for the most up to date agenda.

ADDRESSES: The meeting will be held for members of the EVWG at U.S. Department of Transportation, 1200 New Jersey Avenue SE, Washington, DC 20590. Members of the public who would like to participate may do so virtually and must register at: https://driveelectric.gov/ev-working-group.

FOR FURTHER INFORMATION CONTACT: Dr. Rachael Nealer, Designated Federal Officer, U.S. Department of Energy, 1000 Independence Avenue SW, Washington, DC 20585; email: evwg@ee.doe.gov; telephone: (202) 586-3916.

SUPPLEMENTARY INFORMATION: Background: The Electric Vehicle Working Group (EVWG) was formed by the Joint Office of Energy and Transportation to make recommendations to the Secretaries of Energy and Transportation regarding the development, adoption, and integration of light-, medium-, and heavy-duty electric vehicles (EVs) into the U.S. transportation and energy systems.

Purpose of the Meeting: This is the first in-person meeting of the EVWG.

Tentative Agenda: The meeting will start at 1:00 p.m. Eastern Time on Tuesday, December 12, 2023. The tentative meeting agenda includes: opening remarks by the Secretaries of Energy and Transportation, a discussion on the first report to be drafted by the EVWG, and a discussion on future report topics and subcommittees. Meeting materials and a link to registration can be found here: https://driveelectric.gov/ev-working-group.

Public Participation: The meeting will be held in-person for members of the EVWG. Members of the public who would like to participate may do so virtually and must register at: https://driveelectric.gov/ev-working-group.

Individuals and representatives of organizations who would like to offer comments and suggestions may do so during the public comment portion of the meeting. Approximately 30 minutes will be reserved for public comments near the end of the meeting on December 13th. Time allotted per speaker will depend on the number who wish to speak but will not exceed three minutes. The Designated Federal Officer is empowered to conduct the meeting in a fashion that will facilitate the orderly conduct of business. Those wishing to speak during the public comment period should indicate so within their registration.

Those not able to attend the meeting or who have insufficient time to address the committee are invited to send a written statement to Dr. Rachael Nealer, U.S. Department of Energy, 1000 Independence Avenue SW, Washington, DC 20585, or email: evwg@ee.doe.gov.

Minutes: The minutes of the meeting will be available on https://driveelectric.gov/ev-working-group or by contacting Dr. Nealer. She may be reached at the above postal address or email address.

Signed in Washington, DC, on November 14, 2023.
LaTanya Butler,
Deputy Committee Management Officer.

[FR Doc. 2023-25455 Filed 11-16-23; 8:45 am]

BILLING CODE 6450-01-P